ENVIRONMENTAL PROTECTION AGENCY

40 CFR Part 52

[EPA-R03-OAR-2010-0039; FRL-9158-3]

Approval and Promulgation of Air Quality Implementation Plans; Delaware; Control of Nitrogen Oxide Emissions From Industrial Boilers and Process Heaters at Petroleum Refineries

Correction

In rule document 2010-13377 beginning on page 31711 in the issue of June 4, 2010, make the following correction:

§52.420 [Corrected]

On page 31712 in §52.420, the table titled EPA-Approved Regulations in the Delaware SIP should appear as follows:

EPA-Approved Regulations in the Delaware SIP
State citation | Title/subject | State effective date | EPA approval date | Additional explanation
* * * * * * *
Regulation 1142—Specific Emission Control Requirements (Formerly Regulation No. 42)
* * * * * * *
Section 2.0 | Specific Emission Control Requirements | 11/11/09 | 6/4/10 [Insert page number where the document begins] | Emission limitations for any industrial boiler or process heater with a maximum heat input capacity of equal to or greater than 200 mmBTU/hr.
* * * * * * *

[FR Doc. C1-2010-13377 Filed 6-9-10; 8:45 am]

BILLING CODE 1505-01-D